EXPORT-IMPORT BANK

[Public Notice EIB-2020-001]

Application for Final Commitment for a Long-Term Loan or Financial Guarantee in Excess of $100 Million: AP089375XX

AGENCY: Export-Import Bank of the United States.

ACTION: Notice.

DATES: Comments must be received on or before July 10, 2020 to be assured of consideration before final consideration of the transaction by the Board of Directors of EXIM.

ADDRESSES: Comments may be submitted through Regulations.gov at WWW.REGULATIONS.GOV. To submit a comment, enter EIB-2020-001 under the heading “Enter Keyword or ID” and select Search. Follow the instructions provided at the Submit a Comment screen. Please include your name, company name (if any) and EIB-2020-001 on any attached document.

SUMMARY: This Notice is to inform the public, in accordance with Section 3(c)(10) of the Charter of the Export-Import Bank of the United States (“EXIM”), that EXIM has received an application for final commitment for a long-term loan or financial guarantee in excess of $100 million (as calculated in accordance with Section 3(c)(10) of the Charter).

Comments received within the comment period specified below will be presented to the EXIM Board of Directors prior to final action on this Transaction.

REFERENCE: AP089375XX.

PURPOSE AND USE: Brief description of the purpose of the transaction:

To support the purchase of accounts receivable due from The Boeing Company to CFM International, Inc., originating from the sale of the Leading Edge Aviation Propulsion (“LEAP”) 1-B aircraft engines.

Brief non-proprietary description of the anticipated use of the items being exported:

The LEAP 1-B aircraft engines are used in the Boeing 737 MAX aircraft exported to airlines throughout the world.

To the extent that EXIM is reasonably aware, the item(s) being exported are not expected to produce exports or provide services in competition with the exportation of goods or provision of services by a United States industry.

PARTIES: Principal Supplier: CFM International, Inc.

Obligor: The Boeing Company.

Guarantor(s): N/A

DESCRIPTION OF ITEMS BEING EXPORTED: Aircraft engines.

INFORMATION ON DECISION: Information on the final decision for this transaction will be available in the “Summary Minutes of Meetings of Board of Directors” on http://exim.gov/newsandevents/boardmeetings/board/.

CONFIDENTIAL INFORMATION: Please note that this notice does not include confidential or proprietary business information; information which, if disclosed, would violate the Trade Secrets Act; or information which would jeopardize jobs in the United States by supplying information that competitors could use to compete with companies in the United States.

Kita L. Hall,
Program Specialist.

[FR Doc. 2020-12787 Filed 6-12-20; 8:45 am]

BILLING CODE 6690-01-P